DEPARTMENT OF THE INTERIOR

Fish and Wildlife Service

[FWS-R9-NCTC-2009-N285; ABC-92/97300-1661-0029]

National Conservation Training Center Logo

AGENCY: Fish and Wildlife Service, Interior.

ACTION: Notice.

SUMMARY: We, the U.S. Fish and Wildlife Service, announce our adoption of a representation logo for the Fish and Wildlife Service's National Conservation Training Center (NCTC, Center) in Shepherdstown, West Virginia. We will use this new logo as the Center's official graphic representation, for the specific purpose of providing a unified, consistent visual image for the Center's training products and other items, including course materials, hospitality products, artwork, and other promotional materials that identify the Center and support its mission.

DATES: Effective April 27, 2010.

FOR FURTHER INFORMATION CONTACT: Richard DeVries; telephone: 304/876-7656; fax: 304/876-7241; e-mail: Richard_DeVries@fws.gov.

SUPPLEMENTARY INFORMATION: We designate the indicated graphic depiction of the National Conservation Training Center's “Entry-Auditorium” building and the words “National Conservation Training Center” as the official logo of NCTC in Shepherdstown, West Virginia.

We establish this logo for use on any training course materials, hospitality products, artwork, or other promotional materials related to the training curriculum, operations, and mission of the National Conservation Training Center. The logo is for the express use of NCTC's management and staff for uses including course notebooks, guest room writing tablets and envelopes, beverage containers, on-campus signs and banners, and studio-set artwork for distance-learning television broadcasts. No one outside of the FWS may use the logo “without” the approval of the Director of the FWS. Any unauthorized use of the logo will constitute a violation 18 U.S.C. 701 and subject the violator to possible fines and imprisonment. Examples of approved uses by outside groups could include, but are not limited to, stationery, calendars and postcards, clothing, and coffee mugs.

The NCTC logo will be used as standalone artwork and will not be used with the official Department of the Interior seal, the Fish and Wildlife Service seal, or any other Federal department or agency logos.

The NCTC logo may not be mechanically or electronically altered, cut apart, separated, or otherwise distorted in perspective or appearance, including the removal or redesign of the words “National Conservation Training Center.” No text will be shown in conjunction with this logo except for the approved words “National Conservation Training Center.”

The NCTC logo will always be presented as a single solid color, without gradients or other variant graphical treatments, with noticeable contrast to the background on which it is presented. The preferred color for the NCTC logo is “NCTC Green” (PMS 5555 or C56/M35/Y46/K5 or R119/G140/B133). Secondary preferred colors are “NCTC Red” (PMS 7428 or C0/M80/Y45/K55 or R132/G43/B55) or 100 percent Black.

The NCTC logo will not be reproduced smaller than 1 inch wide or with a font size smaller than 4.5 points.

The Graphic Design and Publishing Branch of the National Conservation Training Center is solely responsible for the management and use of the NCTC logo, and for guaranteeing adherence to requirements governing the use of this logo, including communicating logo specifications to contract printers and vendors that have been authorized to produce materials or products carrying the NCTC logo.

The new NCTC logo is reproduced below.

Dated: April 2, 2010.
Rowan W. Gould,
Acting Director, U.S. Fish and Wildlife Service.

[FR Doc. 2010-9732 Filed 4-26-10; 8:45 am]

BILLING CODE 4310-55-P